DEPARTMENT OF AGRICULTURE

Submission for OMB Review; Comment Request

April 22, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 27, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program Case and Procedural Case Action Review Schedule (FNS-245) Negative Case Action Review Schedule.

OMB Control Number: 0584-0034.

Summary of Collection: State agencies must complete and maintain the FNS-245 Negative Case Action Review Schedule for each negative case in their SNAP Quality Control (QC) sample. States are required to document any discussions about individually sampled cases within the SNAP QC record and submit to FNS for subsequent review and auditing purposes. The legal authority for SNAP QC is in Section 16(c) of the Food and Nutrition Act of 2008, as amended; the legislative requirement for the recordkeeping requirements is Section 11(a) of the Act.

Need and Use of the Information: The FNS-245, Negative Case Action Review Schedule collects QC data and serves as the data entry form for negative case action QC reviews in the Supplemental Nutrition Assistance Program (SNAP). States submit the FNS -245 to FNS when States enter into third party contracts. FNS will use this during review for audits.

Description of Respondents: State, Local, or Tribal Government.

Number of Respondents: 53.

Frequency of Responses: Recordkeeping; Reporting: On occasion; Annually.

Total Burden Hours: 102,001.

Food and Nutrition Service

Title: Supplemental Nutrition Assistance Program (SNAP) Connection Resource Sharing Form (FNS 889).

OMB Control Number: 0584-0625.

Summary of Collection: The SNAP-Ed Library is an online database of SNAP-Ed-related materials. The SNAP-Ed Connection Resource Sharing Form (FNS 889) gives SNAP-Ed instructors, as well as those who develop nutrition education materials, the opportunity to voluntarily share information about resources that can be used to administer, develop, implement, evaluate or showcase SNAP-Ed programs. SNAP-Ed is authorized under Section 28 of the Food and Nutrition Act (FNA) of 2008, as amended through Public Law 113-79.

Need and Use of the Information: Information collected via this form enables the SNAP-Ed Connection staff to review materials for possible inclusion in the SNAP-Ed Library. By using this database, SNAP-Ed-funded programs can share resources with each other, reduce duplication of efforts, and improve program quality.

Description of Respondents: Business-for-profit; Not-for-profit institutions; State, Local or Tribal Government.

Number of Respondents: 25.

Frequency of Responses: Reporting: On occasion.

Total Burden Hours: 19.

Ruth Brown,
Departmental Information Collection Clearance Officer.

[FR Doc. 2021-08732 Filed 4-26-21; 8:45 am]

BILLING CODE 3410-30-P